DEPARTMENT OF COMMERCE

National Oceanic and Atmospheric Administration

DEPARTMENT OF THE INTERIOR

Fish and Wildlife Service

[I.D. 120999H-1]

Extension of Comment Period for the Draft Environmental Impact Statement, and Incidental Take Permit Application and Proposed Habitat Conservation Plan Submitted by Plum Creek Timberlands, L. P. for Lands in Montana, Idaho, and Washington

AGENCIES: National Marine Fisheries Service (NMFS), National Oceanic and Atmospheric Administration, Commerce; Fish and Wildlife Service (FWS), Interior.

ACTION: Notice; extension of public comment period.

SUMMARY: This notice announces the extension of the comment period announced in the Federal Register notice dated December 17, 1999, for the Draft Environmental Impact Statement (DEIS) for proposed issuance of an Incidental Take Permit (Permit), pursuant the Endangered Species Act of 1973, as amended (ESA), to Plum Creek Timber Lands, L.P., (and its partners Plum Creek Timber Company, Inc., and Plum Creek Timber I L. L. C.), Plum Creek Marketing Inc., Plum Creek Land Company, Plum Creek Northwest Lumber, Inc., Plum Creek Northwest Plywood, Inc., and Plum Creek MDF, Inc. (Plum Creek).

DATES: Written comments must be received at the appropriate address or fax number by 5:00pm Mountain Standard Time on March 17, 2000.

ADDRESSES: Written comments should be sent to Ted Koch, Project Biologist, FWS, 1387 S. Vinnell Way, Room 368, Boise, Idaho 83709 (fax: 208/387-5262); or Bob Ries, Project Biologist, NMFS, 530 S. Albury Street, Suite #2, Moscow, Idaho 83843 (fax: 208/882-4109). Comments will not be accepted if submitted via e-mail or the internet.

FOR FURTHER INFORMATION CONTACT: Ted Koch, 208/378-5243, fax 208/378-5262, e-mail Ted_Koch@fws.gov; or Bob Ries, 208/882-6148, fax 208/882-4109, e-mail Bob.Ries@noaa.gov.

SUPPLEMENTARY INFORMATION: This notice extends the comment period announced in the Federal Register on December 17, 1999 (64 FR 70695). Issuance of the Permit is pursuant to section 10(a)(1)(B)of the ESA. The December 17, 1999, notice informed the public that NMFS and FWS have received an application by Plum Creek for a Permit, and invited the public to comment on the proposal to issue the Permit, Habitat Conservation Plan, DEIS, and Implementing Agreement.

Dated: February 4, 2000.
Thomas J. Dwyer,
Acting Regional Director, Region 1, U.S. Fish and Wildlife Service.

Dated: February 11, 2000.
Wanda L. Cain,
Chief, Endangered Species Division, Office of Protected Resources, National Marine Fisheries Service.

[FR Doc. 00-3727 Filed 2-15-00; 8:45 am]

BILLING CODE 3510-22-F, 4310-55-F